DEPARTMENT OF AGRICULTURE

Forest Service

Gogebic Resource Advisory Committee

AGENCY: Forest Service, USDA.

ACTION: Notice of meeting.

SUMMARY: The Gogebic Resource Advisory Committee will meet in Watersmeet, Michigan. The committee is meeting as authorized under the Secure Rural Schools and Community Self-Determination Act (Pub. L. 110-343) and in compliance with the Federal Advisory Committee Act. The purpose is to hold the first meeting of the newly formed committee.

DATES: The meeting will be held on August 12, 2010, and will begin at 9:30 a.m.

ADDRESSES: The meeting will be held at the Iron River and Watersmeet District Office, E23979 US 2 E., Watersmeet, Michigan. Written comments should be sent to Lisa Klaus, Ottawa National Forest, E6248 US Hwy. 2, Ironwood, MI 49938. Comments may also be sent via e-mail to lklaus@fs.fed.us or via facsimile to 906-932-0122.

All comments, including names and addresses when provided, are placed in the record and are available for public inspection and copying. The public may inspect comments received at Ottawa National Forest, E6248 US Hwy. 2, Ironwood, MI 49938.

FOR FURTHER INFORMATION CONTACT: Lisa Klaus, RAC coordinator, USDA, Ottawa National Forest, E6248 US Hwy. 2, Ironwood, MI, (906) 932-1330, ext. 328; e-mail lklaus@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. The following business will be conducted: (1) Introductions of all committee members, replacement members and Forest Service personnel. (2) Selection of a chairperson by the committee members. (3) Receive materials explaining the process for considering and recommending Title II projects; and (4) Public comment. Persons who wish to bring related matters to the attention of the Committee may file written statements with the Committee staff before or after the meeting.

Dated: July 16, 2010.
Susan J. Spear,
Designated Federal Officer.

[FR Doc. 2010-18056 Filed 7-22-10; 8:45 am]

BILLING CODE 3410-11-P